DEPARTMENT OF LABOR

Employment and Training Administration

[TA-W-59,533]

Yakima Resources, LLC; Yakima, WA; Notice of Affirmative Determination Regarding Application for Reconsideration

By application dated August 17, 2006, the Western Council of Industrial Workers, United Brotherhood of Carpenters and Joiners of America (Union), requested administrative reconsideration of the Department of Labor's Notice of Negative Determination Regarding Eligibility to Apply for Worker Adjustment Assistance, applicable to workers of the subject firm. The Department's determination was issued on August 4, 2006. The Department's Notice of determination was published in the Federal Register on August 16, 2006 (71 FR 47253).

The denial was based on the Department's findings that, during the relevant period, the subject company did not import plywood or shift production of plywood overseas and that the subject company's only customer did not import plywood.

The Union requests that the Department investigate whether the subject company or its customers imported oriented strand board (OSB), a product which is like and directly competitive with plywood.

The Department has carefully reviewed the Union's request for reconsideration and has determined that the Department will conduct further investigation.

Conclusion

After careful review of the application, I conclude that the claim is of sufficient weight to justify reconsideration of the Department of Labor's prior decision. The application is, therefore, granted.

Signed at Washington, DC, this 12th day of September 2006.
Elliott S. Kushner,
Certifying Officer, Division of Trade Adjustment Assistance.

[FR Doc. E6-15631 Filed 9-20-06; 8:45 am]

BILLING CODE 4510-30-P